DEPARTMENT OF TRANSPORTATION

Federal Aviation Administration

Notice To Intend To Rule on Application 04-02-C-00-ACY To Impose and Use a Revenue From a Passenger Facility Charge (PFC) at Atlantic City International Airport, Egg Harbor Township, NJ

AGENCY: Federal Aviation Administration (FAA), DOT.

ACTION: Notice to intend to rule on application.

SUMMARY: The FAA proposes to rule and invites public comment on the application to impose and use a PFC at Atlantic City International Airport under the provisions of the Aviation Safety and Capacity Act of 1990 (Title IX of the Omnibus Budget Reconciliation Act of 1990) (Public Law 101-508) and part 158 of the Federal Aviation Regulations (14 CFR part 158).

DATES: Comments must be received on or before April 19, 2004.

ADDRESSES: Comments on this Application may be mailed or delivered in triplicate to the FAA at the following address: Mr. Dan Vornea, Project Manager, New York District Office, 600 Old Country Road, Suite 446, Garden City, NY 11530.

In addition, one copy of any comments submitted to the FAA must be mailed or delivered to Mr. Thomas Rafter, Airport Director, South Jersey Transportation Authority, New Jersey, at the following address: Atlantic City International Airport, Civil Terminal #6, Egg Harbor Township, New Jersey 08234-9590.

Air carriers and foreign air carriers may submit copies of their written comments previously provided to Atlantic City International Airport under section 158.23 of part 158.

FOR FURTHER INFORMATION CONTACT: Dan Vornea, Project Manager, New York Airports District Office, 600 Old Country Road, Suite 446, Garden City, NY 11530, telephone no. (516) 227-3812. The application may be reviewed in person at this same location.

SUPPLEMENTARY INFORMATION: The FAA proposes to rule and invites public comment on the application to impose and use a PFC at Atlantic City International Airport under the provisions of the Aviation Safety and Capacity Expansion Act of 1990 (Title IX of the Omnibus Budget Reconciliation Act of 1990) (Pub. L. 101-508) and part 158 of the Federal Aviation Regulations (14 CFR part 158).

On March 10, 2004, the FAA determined that the application to impose and use a PFC submitted by the Atlantic City International Airport was substantially complete within the requirements of § 158.25 of part 158. The FAA will approve or disapprove the application, in whole or in part, no later than July 7, 2004.

The following is a brief overview of the application:

Application Number: 04-02-C-00-ACY.

Level of Proposed PFC: $3.00.

Proposed Charge Effective Date: June 1, 2004.

Proposed Charge Expiration Date: November 1, 2006.

Total Estimated PFC Revenue: $1,801,760.

Brief Description of Proposed Projects: Runway 31 Category I Instrument Landing System; Taxiway “H” Relocation.

Class or classes of air carriers which the public agency has requested not to be required to collect PFS's are: Non-Scheduled/On Demand Air Carriers filing FAA Form 1800-31.

Any person may inspect the Application in person at the FAA office listed above under FOR FURTHER INFORMATION CONTACT and at the FAA Regional Office: 1 Aviation Plaza, Jamaica, NY 11434-4809.

In addition, any person may, upon request, inspect the application notice and other documents germane to the application in person at the Atlantic City International Airport.

Issued in Garden City, New York on March 10, 2004.
Philip Brito,
Manager, NYADO, Eastern Region.

[FR Doc. 04-6156 Filed 3-18-04; 8:45 am]

BILLING CODE 4910-13-M